CORPORATION FOR NATIONAL AND COMMUNITY SERVICE

45 CFR Parts 2520, 2521, and 2522

RIN 3045-AA84

AmeriCorps State and National Updates; Correction

AGENCY: Corporation for National and Community Service.

ACTION: Final rule; correction.

SUMMARY: The Corporation for National and Community Service (operating as AmeriCorps) is correcting a final rule that appeared in the Federal Register on May 28, 2024. These corrections do not include any substantive changes to the final rule. The final rule updated regulations governing the AmeriCorps State and National program to provide programmatic and grantmaking flexibilities while protecting program integrity and safeguarding taxpayer funds.

DATES: Effective on October 1, 2024.

FOR FURTHER INFORMATION CONTACT: Jennifer Bastress-Tahmasebi, Deputy Director, AmeriCorps State and National at JBastressTahmasebi@americorps.gov, (202) 606-6667; or Elizabeth Appel, Associate General Counsel, at EAppel@americorps.gov, (202) 967-5070.

SUPPLEMENTARY INFORMATION: In FR Doc. 2024-11538 beginning on page 46024 in the Federal Register of Tuesday, May 28, 2024, the following corrections are made:

§§ 2520.10 through 2520.65 [Corrected]

1. On page 46033, in the second column, in part 2520, in amendment 3, the instruction is corrected to read:

“In §§ 2520.10 through 2520.65:

a. Remove the words “the Corporation” wherever they appear and add in their place the word “AmeriCorps”;

b. Remove the word “Corporation” and add in its place the word “AmeriCorps”;

c. Remove the word “Corporation-approved” and add in its place the word “AmeriCorps-approved”; and

d. Remove the word “non-Corporation” and add in its place the word “non-AmeriCorps”.

§§ 2521.10 through 2521.95 [Corrected]

2. On page 46033, in the third column, in part 2521, in amendment 7, the instruction is corrected to read:

“In §§ 2521.10 through 2521.95:

a. Remove the words “the Corporation” and add in their place the word “AmeriCorps”;

b. Remove the words “The Corporation” and add in their place the word “AmeriCorps”;

c. Remove the words “The Corporation's” and add in their place the word “AmeriCorps' ”;

d. Remove the words “the Corporation's” and add in their place the word “AmeriCorps' ”; and

e. Remove the word “Corporation” and add in its place the word “AmeriCorps”.

§ 2521.45 [Corrected]

3. On page 46033, in the third column, in part 2521, in amendment 8, the instruction and accompanying regulatory text are corrected to read:

“Revise and republish § 2521.45 to read as follows:

§ 2521.45 What are the limitations on the Federal Government's share of program costs?

The limitations on the Federal Government's share are different—in type and amount—for member support costs and program operating costs.

(a) Member support: The Federal share, including AmeriCorps and other Federal funds, of member support costs, which include the living allowance required under § 2522.240(b)(1) of this chapter, FICA, unemployment insurance (if required under State law), and worker's compensation (if required under State law), is limited as follows:

(1) If you are a professional corps described in § 2522.240(b)(2)(i) of this chapter, you may not use AmeriCorps funds for the living allowance.

(2) Your share of member support costs must be non-Federal cash.

(3) AmeriCorps's share of health care costs may not exceed 85 percent.

(b) Program operating costs. The AmeriCorps share of program operating costs may not exceed 67 percent. These costs include expenditures (other than member support costs described in paragraph (a) of this section) such as staff, operating expenses, internal evaluation, and administration costs.

(1) You may provide your share of program operating costs with cash, including other Federal funds (as long as the other Federal agency permits its funds to be used as match), or third-party in-kind contributions.

(2) Contributions, including third party in-kind must:

(i) Be verifiable from your records;

(ii) Not be included as contributions for any other Federally assisted program;

(iii) Be necessary and reasonable for the proper and efficient accomplishment of your program's objectives; and

(iv) Be allowable under applicable Office of Management and Budget (OMB) cost principles.

(3) You may not include the value of direct community service performed by volunteers, but you may include the value of services contributed by volunteers to your organizations for organizational functions such as accounting, audit, and training of staff and AmeriCorps programs.”

§§ 2522.100 through 2522.950 [Corrected]

4. On page 46034, in the second column, in part 2522, in amendment 13, the instruction is corrected to read:

“In §§ 2522.100 through 2522.950:

a. Remove the words “the Corporation's AmeriCorps” and add in their place the word “AmeriCorps' ”;

b. Remove the words “Corporation AmeriCorps” and add in their place the word “AmeriCorps”;

c. Remove the words “The Corporation” and add in their place the word “AmeriCorps”;

d. Remove the words “the Corporation” and “the corporation” and add in their places the word “AmeriCorps”;

e. Remove the words “a Corporation” and add in their place the words “an AmeriCorps”; and

f. Remove the word “Corporation-assessment” and add in its place the word “AmeriCorps-assessment”;

g. Remove the word “Corporation-sponsored” and add in its place the word “AmeriCorps-sponsored”;

h. Remove the words “the Corporation's” and add in their place the word “AmeriCorps' ”; and

i. Remove the words “Corporation” and add in its place the word “AmeriCorps”

Andrea Grill,
Acting General Counsel.

[FR Doc. 2024-18125 Filed 8-15-24; 8:45 am]

BILLING CODE 6050-28-P